DEPARTMENT OF AGRICULTURE

Forest Service

Site Access and Coordination for Preliminary Assessments and Site Inspections Conducted by the United States Army Corps of Engineers on Formerly Used Defense Sites

AGENCY: Forest Service, USDA.

ACTION: Notice of issuance of agency interim directive.

SUMMARY: The Forest Service is issuing an interim directive (ID) to provide direction to Forest Service employees regarding site access and coordination for nonsurface-disturbing preliminary assessments and site inspections conducted by the United States Army Corps of Engineers and its contractors on formerly used defense sites (FUDS) on National Forest System (NFS) lands. This ID applies only to site access and coordination procedures and not to any subsequent response activities on NFS lands, which are subject to authorization in accordance with 36 CFR Part 251, Subpart B. This interim directive is issued as ID 2709.11-2008-1 to Forest Service Handbook 2709.11, chapter 40.

DATES: This interim directive is effective May 2, 2008.

ADDRESSES: This interim directive (id_2709.11-2008-1) is available electronically from the Forest Service via the World Wide Web/Internet at http://www.fs.fed.us/im/directives. Single paper copies of the ID are also available by contacting Julett Denton, Lands Staff (Mail Stop 1124), Forest Service, 1400 Independence Avenue, SW., Washington, DC 20250-1124 (telephone 202-205-1256).

FOR FURTHER INFORMATION CONTACT: Julett Denton, Lands Staff (202-205-1256).

Dated: April 25, 2008.
James E. Hubbard,
Deputy Chief, State and Private Forestry.

[FR Doc. E8-9730 Filed 5-1-08; 8:45 am]

BILLING CODE 3410-11-P